ENVIRONMENTAL PROTECTION AGENCY

[FRL-7585-1]

Notice of Proposed Administrative Settlement Pursuant to the Comprehensive Environmental Response, Compensation and Liability; In Re: Arcanum Iron and Metal Site, Arcanum, OH

AGENCY: Environmental Protection Agency (EPA).

ACTION: Notice; request for public comment.

SUMMARY: Notice is hereby given of a proposed administrative settlement under CERCLA concerning the Arcanum Iron and Metal Site (“Site”) in Arcanum, Ohio. Subject to review and comment by the public pursuant to this Notice, the settlement has been approved by the United States Department of Justice.

The Settling Parties, Alan and Denise Hansbarger, currently own property adjacent to the Site and have entered into a real estate contract with the owner of the Site to purchase approximately 17 acres of property including the Site. The Settling Parties plan to use the land for agricultural purposes.

Under the terms of the settlement, the Settling Parties have agreed to provide partial reimbursement to the U.S. EPA Hazardous Substance Superfund for costs incurred by the U.S. EPA in cleaning up the Site. In exchange for these commitments, the United States covenants not to sue or take administrative action against the Settling Parties. In addition, the Settling Parties will receive contribution protection pursuant to section 113(f)(2) of CERCLA. Finally, U.S. EPA will remove its lien on the property.

For thirty (30) days following the date of publication of this notice the Agency will receive written comments relating to the settlement. The Agency will consider all comments received and may modify or withdraw its consent to the settlement if comments received disclose facts or considerations which indicate that the settlement is inappropriate, improper, or inadequate.

DATES: Comments must be submitted on or before December 10, 2003.

ADDRESSES: The proposed settlement, additional background information relating to the settlement, and the Agency's response to any comments received are available for public inspection at the Arcanum Public Library, 101 W. North Street, Arcanum, Ohio, and at the EPA, Region 5, 7th Floor File Room, 77 West Jackson Boulevard, Chicago, Illinois. In addition, a copy of the proposed settlement also may be obtained from Richard M. Murawski, Assistant Regional Counsel (C-14J), Region V, 77 West Jackson Boulevard, Chicago, Illinois 60604-3590, or by calling (312) 886-6721. Comments should reference the Arcanum Iron and Metal Site, Arcanum, Ohio and should be addressed to Richard M. Murawski, Assistant Regional Counsel (C-14J), Region V, 77 West Jackson Boulevard, Chicago, Illinois 60604.

FOR FURTHER INFORMATION CONTACT: Richard M. Murawski, Assistant Regional Counsel (C-14J), Region V, 77 West Jackson Boulevard, Chicago, Illinois 60604, or call (312) 886-6721.

Authority: The Comprehensive Environmental Response, Compensation and Liability Act, as amended, 42 U.S.C. 9601-9675.

Dated: October 31, 2003.
William E. Muno,
Director, Superfund Division, Region 5.

[FR Doc. 03-28216 Filed 11-7-03; 8:45 am]

BILLING CODE 6560-50-P